ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular committee and Board meetings in Washington, DC, Monday through Wednesday, March 12-14, 2012 on the times and location listed below.

DATES: The schedule of events is as follows:

Monday, March 12, 2012

10:00-10:30 a.m. Budget Committee.

10:45-11:30 Ad Hoc Committee on Accessible Design in Education.

11:30-Noon Preview of revised Access Board Web site.

1:30-2:30 p.m. Strategic Planning.

2:45-3:45 Ad Hoc Committee on Frontier Issues.

Tuesday, March 13, 2012

9:30-10:30 a.m. Technical Programs Committee.

10:45-4:00 p.m. Ad Hoc Committee Meetings: Closed to Public.

Wednesday, March 14, 2012

1:30-3:00 p.m. Board Meeting.

ADDRESSES: Meetings will be held at the Access Board Conference Room, 1331 F Street NW., suite 800, Washington, DC 20004.

FOR FURTHER INFORMATION CONTACT: For further information regarding the meetings, please contact David Capozzi, Executive Director, (202) 272-0010 (voice); (202) 272-0054 (TTY).

SUPPLEMENTARY INFORMATION: At the Board meeting scheduled on the afternoon of Wednesday, March 14, 2012, the Access Board will consider the following agenda items:

• Approval of the draft January 11, 2012 meeting minutes (vote).

• Budget Committee Report.

• Technical Programs Committee Report.

• Planning and Evaluation Committee Report.

• Ad Hoc Committee Reports.

○ Ad Hoc Committee on Outdoor Developed Areas (vote).

○ Ad Hoc Committee on Shared Use Paths (vote).

• Executive Director's Report.

• Election of Officers (vote).

• Public Comment, Open Topics.

All meetings are accessible to persons with disabilities. An assistive listening system, computer assisted real-time transcription (CART), and sign language interpreters will be available at the Board meeting and committee meetings. Persons attending Board meetings are requested to refrain from using perfume, cologne, and other fragrances for the comfort of other participants (see www.access-board.gov/about/policies/fragrance.htm for more information).

David M. Capozzi,
Executive Director.

[FR Doc. 2012-3063 Filed 2-9-12; 8:45 am]

BILLING CODE 8150-01-P